Proclamation 10802 of August 30, 2024

Labor Day, 2024

By the President of the United States of America

A Proclamation

Every year on Labor Day, we celebrate the dignity of America's workers and the labor unions they have built. I often say that Wall Street did not build America—the middle class built America, and unions built the middle class. Labor unions have done so much for our Nation—giving workers a voice at the workplace, raising standards on the job, and fighting for better benefits and wages for us all. Today, we honor the pioneers who fought for the rights of working people, pay tribute to the dedication of our American workforce, and honor the enduring movement that powers our economy and strengthens our Nation.

My father taught me from a young age that a job is about far more than just a paycheck—it is about your dignity. When I came into office, too many people had lost both their paychecks and their sense of dignity. Our economy was failing working-class and union families. Decades of trickle-down economics sent jobs overseas, shut down factories, and hollowed out our communities. People had lost their sense of pride, their security, and their pathway to the middle class.

That is why I promised to be the most pro-labor, pro-union President in history and ensure unions have the support they need to fight for our workers. Last year, the Department of the Treasury released a comprehensive report detailing how unions are not just good for union workers but non-union workers as well, showing that union growth helps to build a strong middle class in America. I am proud to be the first sitting President to walk the picket line to support workers who were striking for better conditions. I am also proud that, to date, we have created nearly 16 million new jobs, including almost 800,000 manufacturing jobs and nearly 900,000 construction jobs. In fact, investment in construction of new factories has nearly tripled since I took office. My Administration announced more than 60,000 projects to rebuild America's roads, bridges, airports, ports, and more through our Bipartisan Infrastructure Law. Wages are up, inflation is down, and we have had the fastest recovery of any advanced economy in the world since the pandemic started.

Furthermore, we are positioning American workers to lead the world in innovation. I signed the Inflation Reduction Act, the largest investment in clean energy and climate action in history, creating nearly 335,000 clean energy jobs according to outside estimates. I also signed the CHIPS and Science Act to bring semiconductor manufacturing back home and ensure that America's clean energy jobs go to American workers. To date, we have attracted nearly $900 billion in private-sector commitments to invest in manufacturing and clean energy. I am proud that this manufacturing boom we ignited is being done with American products and led by American workers—the most highly skilled workers in the world—because of “Made in America” provisions that I championed and my Administration enforced.

Today, more Americans are joining the workforce, and we have the highest share of working-age Americans in the workforce in over 20 years. And over the past 2 years, more workers have been petitioning for union representation. To ensure those workers have a voice on the job, I have required the use of project labor agreements for nearly all large-scale Federal construction projects. I have also strengthened Davis-Bacon requirements to guarantee that prevailing wages pay workers what they deserve and enacted the Butch Lewis Act—the most significant law for union retirement security in 50 years—that has protected the pensions of 1 million union workers. We issued a rule that expands overtime protections to millions of workers, and my Administration is working to crack down on noncompete agreements, which prevent 30 million Americans from taking new, higher-paying jobs.

My Administration is also making sure that workers feel safe and secure on the job. That is why the Department of Labor is proposing a new rule that will establish the Nation's first-ever Federal safety standard for excessive heat in the workplace. That rule includes developing a response to heat illness, training employees and supervisors, implementing rest breaks, and ensuring access to shade and water. And we are limiting workers' exposure to toxic materials like silica dust to prevent them from developing preventable and irreversible illnesses. My Administration also issued a rule to ensure that workers are empowered to have a representative accompany an Occupational Safety and Health Administration official during workplace inspections.

I have long believed that workers deserve a seat at the table and an opportunity to join a union, organize, and bargain collectively with their employer without coercion or intimidation. That is why I appointed people who actually care about American workers to the National Labor Relations Board. And I established the White House Task Force on Worker Organizing and Empowerment, led by Vice President Harris, which resulted in over 70 actions to promote worker organizing and collective bargaining.

As we look to the future, my Administration is creating long-term pathways to help people secure good-paying jobs, including union jobs. We invested nearly $730 million to expand Registered Apprenticeships, which support the education and training needs of apprentices across the country. And I signed an Executive Order that expands Registered Apprenticeship programs in the Federal workforce, encourages Federal agencies to hire people who have participated in these programs, and increases workers' voices in Federal programs and contracts.

This Labor Day, let us stand in solidarity with America's workers, who are the engines behind our Nation's prosperity. Let us celebrate labor unions, who give voice to our workers and ensure they are given the dignity, respect, and protections in the workplace that they deserve. And let us recommit to ensuring that every hardworking American has a fair shot at achieving the promise of the American Dream for generations to come.

NOW, THEREFORE, I, JOSEPH R. BIDEN JR., President of the United States of America, by virtue of the authority vested in me by the Constitution and the laws of the United States, do hereby proclaim September 2, 2024, as Labor Day. I call upon all public officials and people of the United States to observe this day with appropriate programs, ceremonies, and activities that honor the energy and innovation of working Americans.

IN WITNESS WHEREOF, I have hereunto set my hand this thirtieth day of August, in the year of our Lord two thousand twenty-four, and of the Independence of the United States of America the two hundred and forty-ninth.

[FR Doc. 2024-20131

Filed 9-4-24; 8:45 am]

Billing code 3395-F4-P